DEPARTMENT OF HEALTH AND HUMAN SERVICES

National Institutes Of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301-496-7057; fax: 301-402-0220. A signed Confidential Disclosure Agreement will be required to receive copies of the patent applications.

Quantitative Assay of the Angiogenic and Antiangiogenic Activity of a Test Molecule

Steven K. Libutti (NCI).

U.S. Patent Application No. 11/014,472 filed 16 Dec 2004 (HHS Reference No. E-152-2002/1-US-01).

Licensing Contact: Mojdeh Bahar; 301-435-2950; baharm@mail.nih.gov.

The invention provides a method of measuring the angiogenic or antiangiogenic activity of a test molecule. The method comprises obtaining an embryonated fowl egg, creating a window in the shell of the fowl egg, such that the CAM membrane is exposed, providing to a test region of interest on the CAM a substrate, administering to a vessel located in the CAM a test molecule, administering to a vessel located in the CAM a fluorescent-labeled particle, such that the fluorescent-labeled particle travels through each vessel contained in the test region of interest, removing the substrate and the test region of interest from the fowl egg, capturing a three-dimensional image of the test region of interest, wherein the three-dimensional image comprises a plurality of pixels, such that a fluorescent vascular density (FVD) value can be assigned to the test region of interest, and comparing the FVD value of the test region of interest with the FVD value of a control region of interest that was prepared in the same manner as the test region of interest but without the administration of a test molecule, such that the angiogenic or antiangiogenic activity of the test molecule is measured. A lower FVD value of the test region of interest as compared to the FVD value of the control region of interest is indicative of the test molecule being useful as an inhibitor of angiogenesis. Conversely, a higher FVD value of the test region of interest as compared to the FVD value of the control region of interest is indicative of the test molecule being useful as a stimulator of angiogenesis.

In addition to licensing, the technology is available for further development through collaborative research opportunities with the inventors.

Autotaxin: Motility Simulating Protein Useful in Cancer Diagnosis and Therapy

Mary Stracke, Lance Liotta, Elliot Schiffman, Jerry Krutzch, and Jun Murata (NCI).

U.S. Patent Application filed 16 Feb 2005 (HHS Reference No. E-142-1990-2-US-05).

Licensing Contact: Mojdeh Bahar; 301-435-2950; baharm@mail.nih.gov.

Cell motility plays an important role in embryonic events, adult tissue remodeling, wound healing and metastasis of tumor cells. Some tumor cells produce proteins termed “autocrine motility factors” that stimulate motility in tumor cells. This invention describes a novel tumor protein called Autotaxin (“ATX”) that stimulates both random and directed migration of human A2058 melanoma cells. ATX is a member of the nucleotide phosphodiesterase and pyrophosphatase (NPP) family of proteins but is the only member of the family that stimulates motility. It is also the only member shown to possess lysophospholipase D activity.

This invention can provide a functional marker that can directly estimate the invasive potential of a particular human cancer. One could also use this invention as an assay for a particular secreted marker in body fluids, or in tissues. Other uses include the detection, diagnosis, and treatment of human malignancies, and other inflammatory, fibrotic, infectious and healing disorders.

In addition to licensing, the technology is available for further development through collaborative research opportunities with the inventors.

Dated: December 1, 2005.
Steven M. Ferguson,
Director, Division of Technology Development and Transfer, Office of Technology Transfer, National Institutes of Health.

[FR Doc. E5-7250 Filed 12-12-05; 8:45 am]

BILLING CODE 4140-01-P